DEPARTMENT OF COMMERCE

National Oceanic and Atmospheric Administration

RIN 0648-XC644

Marine Mammals; File No. 18016

AGENCY: National Marine Fisheries Service (NMFS), National Oceanic and Atmospheric Administration (NOAA), Commerce.

ACTION: Notice; amendment of application.

SUMMARY: Notice is hereby given that Tamara McGuire, LGL Alaska Research Associates, Inc., 2000 W International Airport Rd, Suite C1, Anchorage, AK 99502, has applied in due form for a permit to conduct research on Cook Inlet beluga whales (Delphinapterus leucas).

DATES: Written, telefaxed, or email comments must be received on or before May 15, 2014.

ADDRESSES: The application and related documents are available for review by selecting “Records Open for Public Comment” from the Features box on the Applications and Permits for Protected Species (APPS) home page, https://apps.nmfs.noaa.gov, and then selecting File No. 18016 from the list of available applications.

These documents are also available upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Rosa L. González, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

On May 3, 2013 notice (86 FR 25954) was published that Ms. McGuire requests a 5-year permit to conduct research on Cook Inlet beluga whales to provide information about their movement patterns, habitat use, survivorship, reproduction, and population size in Alaska. The application is being amended to request the incidental harassment of up to 200 harbor seals (Phoca vitulina) annually that may be encountered during vessel surveys. Researchers will make no efforts to approach harbor seals. The permit would be valid for five years upon issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 10, 2014.
Tammy C. Adams,
Acting Chief, Permits and Conservation Division, Office of Protected Resources, National Marine Fisheries Service.

[FR Doc. 2014-08524 Filed 4-14-14; 8:45 am]

BILLING CODE 3510-22-P